DEPARTMENT OF AGRICULTURE

Forest Service

Newspapers Used for Publication of Legal Notice of Appealable Decisions for the Northern Region; Northern Idaho, Montana, North Dakota, and portions of South Dakota and Eastern Washington

AGENCY: Forest Service, USDA.

ACTION: Notice.

SUMMARY: This notice lists the newspapers that will be used by all Ranger Districts, Forests, Grasslands, and the Regional Office of the Northern Region to publish legal notices for public comment and decisions subject to appeal and predecisional administrative review under 36 CFR 215, 217, and 218. The intended effect of this action is to inform interested members of the public which newspapers will be used to publish legal notices for public comment or decisions; thereby allowing them to receive constructive notice of a decision, to provide clear evidence of timely notice, and to achieve consistency in administering the appeals process.

DATES: Publication of legal notices in the listed newspapers will begin with decisions subject to appeal that are made on or after January 2, 2007. The list of newspapers will remain in effect until another notice is published in the Federal Register.

FOR FURTHER INFORMATION CONTACT: Appeals and Litigation Group Leader; Northern Region; P.O. Box 7669; Missoula, Montana 59807, Phone: (406) 327-3696.

The newspapers to be used are as follows:

Northern Regional Office

Regional Forester decisions in Montana: The Missoulian, Great Falls Tribune, and The Billings Gazette.

Regional Forester decisions in Northern Idaho and Eastern Washington: The Spokesman Review and Lewiston Tribune.

Beaverhead/Deerlodge NF—Montana Standard

Bitterroot NF—Ravalli Republic

Clearwater NF—Lewiston Tribune

Custer NF—Billings Gazette (Montana)

Rapid City Journal (South Dakota)

Dakota Prairie Grasslands——Bismarck Tribune (North and South Dakota)

Flathead NF——Daily Inter Lake

Gallatin NF—Bozeman Chronicle

Helena NF—Independent Record

Idaho Panhandle NFs—Coeur d'Alene Press

Kootenai NF—Daily Inter Lake

Lewis & Clark NF—Great Falls Tribune

Lolo NF—Missoulian

Nez Perce NF—Lewiston Tribune

Supplemental notices may be placed in any newspaper, but time frames/deadlines will be calculated based upon notices in newspapers of record listed above.

Dated: December 22, 2006.
Kathleen A. McAllister,
Deputy Regional Forester.

[FR Doc. 06-9926 Filed 12-28-06; 8:45 am]

BILLING CODE 3410-11-M